DEPARTMENT OF TRANSPORTATION

Federal Aviation Administration

14 CFR Part 39

[Docket No. FAA-2014-0440; Directorate Identifier 2013-SW-075-AD; Amendment 39-17885; AD 2014-13-09]

RIN 2120-AA64

Airworthiness Directives; Airbus Helicopters Deutschland GmbH (Type Certificate Previously Held by Eurocopter Deutschland GmbH Helicopters) (AHD)

AGENCY: Federal Aviation Administration (FAA), Department of Transportation (DOT).

ACTION: Final rule; request for comments.

SUMMARY: We are adopting a new airworthiness directive (AD) for AHD Model EC135P1, P2, P2+, T1, T2, and T2+ helicopters. This AD requires repetitive visual inspections of the ring frame X9227 for a crack and, if there is a crack, replacing the ring frame before further flight. This AD is prompted by a fatigue crack in the ring frame. These actions are intended to detect a crack in the ring frame and prevent loss of the tail rotor and subsequent loss of control of the helicopter.

DATES: This AD becomes effective July 30, 2014.

The Director of the Federal Register approved the incorporation by reference of a certain document listed in this AD as of July 30, 2014.

We must receive comments on this AD by September 15, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, the European Aviation Safety Agency (EASA) AD, the economic evaluation, any incorporated by reference service information, any comments received, and other information. The street address for the Docket Operations Office (telephone 800-647-5527) is in the ADDRESSES section. Comments will be available in the AD docket shortly after receipt.

For service information identified in this AD, contact Airbus Helicopters, Inc., 2701 N. Forum Drive, Grand Prairie, TX 75052; telephone (972) 641-0000 or (800) 232-0323; fax (972) 641-3775; or at http://www.airbushelicopters.com/techpub.

You may review the referenced service information at the FAA, Office of the Regional Counsel, Southwest Region, 2601 Meacham Blvd., Room 663, Fort Worth, Texas 76137.

FOR FURTHER INFORMATION CONTACT: Matt Fuller, Senior Aviation Safety Engineer, Safety Management Group, Rotorcraft Directorate, FAA, 2601 Meacham Blvd., Fort Worth, Texas 76137; telephone (817) 222-5110; email matthew.fuller@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

We are adopting a new AD for AHD Model EC135P1, P2, P2+, T1, T2, and T2+ helicopters with certain mounting ring frames installed. This AD requires repetitive visual inspections of the ring frame X9227 for a crack and, if there is a crack, replacing the ring frame with an airworthy part before further flight. These actions are intended to detect a crack in the ring frame and prevent loss of tail rotor and subsequent loss of control of the helicopter.

This AD was prompted by AD No. 2013-0289-E, dated December 6, 2013, issued by EASA, which is the Technical Agent for the Member States of the European Union, to correct an unsafe condition for AHD Model EC135P1, EC135P2, EC135P2+, EC135T1, EC135T2, EC135T2+, EC635P2+, EC635T1, and EC635T2+ helicopters equipped with mounting ring frame X9227, part number (P/N) L535H2120301, P/N L535H2120303, or P/N L535H2120304 without frame reinforcement. EASA advises that ring frames X9227 with frame reinforcement P/N L535H2100201 are not affected by its AD. EASA advises that the fuselage tail boom structure of the EC135/EC635 type design is connected to the tail rotor “fenestron” housing by means of a ring frame attached by two rivet rows each. EASA states that during a recent post flight check, the pilot detected a crack that ran along three rivets across the ring frame. According to EASA, this condition if not corrected would gradually reduce the structural integrity of the tail boom fenestron attachment, potentially resulting in detachment of the fenestron and loss of the helicopter. To address this condition, EASA AD No. 2013-0289-E requires repetitive visual inspections of the ring frame X9227.

FAA's Determination

These helicopters have been approved by the aviation authority of Germany and are approved for operation in the United States. Pursuant to our bilateral agreement with Germany, EASA, its technical representative, has notified us of the unsafe condition described in the EASA AD. We are issuing this AD because we evaluated all information provided by EASA and determined the unsafe condition exists and is likely to exist or develop on other helicopters of these same type designs.

Related Service Information

Eurocopter issued Safety Information Notice No. 2636-S-53, dated October 10, 2013, alerting operators that during a post-flight check a pilot discovered a crack at the rear ring frame between the rear structure tube and the fenestron box. The Notice reminds operators to conduct the dedicated visual ring frame check according to the flight manual's pre-flight check so any cracked ring frames will be immediately discovered.

Eurocopter also issued Alert Service Bulletin ASB EC 135-53A-029, Revision 0, dated November 19, 2013 (ASB). The ASB specifies, every 50 flight hours, visually inspecting ring frame X9227 for a crack in addition to the visual pre-flight check of the ring frame. The ASB states that a crack within the ring frame and between the rivet heads is not permissible, and if detected in this area, AHD must be contacted before further flight.

AD Requirements

This AD requires, on or before reaching 100 hours TIS, or within 50 hours TIS for helicopters with more than 100 hours TIS, and thereafter at intervals not to exceed 50 hours TIS, using a 10X or higher power magnifying glass and a light, visually inspecting the ring frame X9227 for a crack between the rivets. If a crack is found, this AD requires, before further flight, replacing the ring frame X9227 with an airworthy part.

Differences Between This AD and the EASA AD

The EASA AD applies to EC635P2+, EC635T1, and EC635T2+ helicopters, and this AD does not because those helicopters are non-FAA type certificated. The EASA AD requires contacting the manufacturer if a crack is found in the ring frame. This AD requires replacing the ring frame if a crack is found.

Costs of Compliance

We estimate that this AD will affect 275 helicopters of U.S. Registry.

We estimate that operators may incur the following costs in order to comply with this AD. Labor costs are estimated at $85 per work hour. We estimate 0.2 work hour to do the inspection for a total estimated cost of $17 per helicopter and $4,675 for the U.S. fleet per inspection cycle. Replacing a ring frame will require 5 work hours and $18,500 for parts for a total cost of $18,925 per helicopter.

FAA's Justification and Determination of the Effective Date

Providing an opportunity for public comments before adopting these AD requirements would delay implementing the safety actions needed to correct this known unsafe condition. Therefore, we find that the risk to the flying public justifies waiving notice and comment before adopting this rule because the required corrective actions in a structural critical area must be done within 50 hours TIS, a very short time period based on the average flight-hour utilization rate for air ambulance and law enforcement operations of these helicopters.

Since an unsafe condition exists that requires the immediate adoption of this AD, we determined that notice and opportunity for public comment before issuing this AD are impracticable and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-13-09 Airbus Helicopters Deutschland GmbH (Type Certificate Previously Held by Eurocopter Deutschland GmbH): Amendment 39-17885; Docket No. FAA-2014-0440; Directorate Identifier 2013-SW-075-AD.

(a) Applicability

This AD applies to Model EC135P1, P2, P2+, T1, T2, and T2+ helicopters with mounting ring frame X9227, part number (P/N) L535H2120301, P/N L535H2120303, or P/N L535H2120304, installed, except those with frame reinforcement P/N L535H2100201 installed, certificated in any category.

(b) Unsafe Condition

This AD defines the unsafe condition as a fatigue crack in a ring frame. This condition could result in loss of a tail rotor and subsequent loss of control of the helicopter.

(c) Effective Date

This AD becomes effective July 30, 2014.

(d) Compliance

You are responsible for performing each action required by this AD within the specified compliance time unless it has already been accomplished prior to that time.

(e) Required Actions

(1) On or before 100 hours time-in-service (TIS), or within 50 hours TIS for helicopters with more than 100 hours TIS, and thereafter at intervals not to exceed 50 hours TIS, using a 10X or higher power magnifying glass and a light, visually inspect the ring frame X9227 for a crack between the rivets as shown in Figure 2 of Eurocopter Alert Service Bulletin ASB EC135-53A-029, Revision 0, dated November 19, 2013. Paint cracks are permissible.

(2) If there is a crack, before further flight, replace the ring frame X9227 with an airworthy part.

(f) Special Flight Permits

Special flight permits are prohibited.

(g) Alternative Methods of Compliance (AMOCs)

(1) The Manager, Safety Management Group, FAA, may approve AMOCs for this AD. Send your proposal to: Matt Fuller, Senior Aviation Safety Engineer, Safety Management Group, Rotorcraft Directorate, FAA, 2601 Meacham Blvd., Fort Worth, Texas 76137; telephone (817) 222-5110; email matthew.fuller@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

(1) Eurocopter Safety Information Notice No. 2636-S-53, Revision 0, dated October 10, 2013, which is not incorporated by reference, contains additional information about the subject of this AD. You may review a copy of the service information at the FAA, Office of the Regional Counsel, Southwest Region, 2601 Meacham Blvd., Room 663, Fort Worth, Texas 76137.

(2) The subject of this AD is addressed in European Aviation Safety Agency (EASA) AD No. 2013-0289-E, dated December 6, 2013. You may view the EASA AD on the Internet at http://www.regulations.gov in Docket No. FAA-2014-0440.

(i) Subject

Joint Aircraft Service Component (JASC) Code: 5302 Tail Rotor.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Eurocopter Alert Service Bulletin ASB EC135-53A-029, Revision 0, dated November 19, 2013.

(ii) Reserved.

(3) For service information identified in this AD, contact Airbus Helicopters, Inc., 2701 N. Forum Drive, Grand Prairie, TX 75052; telephone (972) 641-0000 or (800) 232-0323; fax (972) 641-3775; or at http://www.airbushelicopters.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html. Issued in Fort Worth, Texas, on June 25, 2014.

Lance T. Gant,
Acting Directorate Manager, Rotorcraft Directorate, Aircraft Certification Service.

[FR Doc. 2014-15527 Filed 7-14-14; 8:45 am]

BILLING CODE 4910-13-P